SMALL BUSINESS ADMINISTRATION

Senior Executive Service: Performance Review Board Members

AGENCY: Small Business Administration.

ACTION: Notice of members for the FY 07 Performance Review Board.

SUMMARY: Section 4314(c)(4) of Title 5, U.S.C.; requires each agency to publish notification of the appointment of individuals who may serve as members of that Agency's Performance Review Board (PRB). The following individuals have been designated to serve on the FY 07 Performance Review Board for the U.S. Small Business Administration:

1. Frank R. Borchert, III, Chair, General Counsel.

2. Darryl K. Hairston, Deputy Associate Administrator for Management and Administration.

3. Grady B. Hedgespeth, Director of Financial Assistance.

4. Luz A. Hopewell, Director of International Trade.

5. Herbert L. Mitchell, Associate Administrator for Disaster Assistance.

6. Anoop Prakash, Associate Administrator for Entrepreneurial Development.

7. Sean G. Rushton, Assistant Administrator for Communication and Public Liaison.

Dated: November 16, 2007.
Steven C. Preston,
Administrator.

[FR Doc. E7-22947 Filed 11-23-07; 8:45 am]

BILLING CODE 8025-01-P